DEPARTMENT OF THE INTERIOR

Bureau of Ocean Energy Management

[OMB Control Number 1010-NEW; Docket ID: BOEM-2023-0004]

Agency Information Collection Activities; Piloting an Approach to Community-Informed Characterization of Communities With Environmental Justice Concerns

AGENCY: Bureau of Ocean Energy Management, Interior.

ACTION: Notice of information collection; request for comment.

SUMMARY: In accordance with the Paperwork Reduction Act of 1995, the Bureau of Ocean Energy Management (BOEM) proposes this new information collection request (ICR) to the Office of Management and Budget (OMB).

DATES: Comments must be received by BOEM no later than January 2, 2024.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-NEW in the subject line of your comments. You may also view and comment on the ICR and its related documents by searching the docket number BOEM-2023-0004 at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time. Even if BOEM withholds your information in the context of this ICR, your comment is subject to the Freedom of Information Act (FOIA). If your comment is requested under the FOIA, your information will only be withheld if BOEM determines that one of the FOIA exemptions to disclosure applies. Such a determination will be made in accordance with the Department's FOIA regulations and applicable law.

In order for BOEM to consider withholding from disclosure your personally identifiable information, you must identify, in a cover letter, any information contained in your comment that, if released, would constitute a clearly unwarranted invasion of your privacy. You must also briefly describe any possible harmful consequences of the disclosure of information, such as embarrassment, injury, or other harm. Note that BOEM will make available for public inspection, in their entirety, all comments submitted by organizations and businesses, or by individuals identifying themselves as representatives of organizations or businesses.

BOEM protects proprietary information in accordance with FOIA and the Department's implementing regulations. Items of a sensitive nature are not intended to be collected.

Title of Collection: “Piloting an Approach to Community-Informed Characterization of Communities with Environmental Justice Concerns.”

Abstract: Various Federal statutes, including the National Environmental Policy Act (NEPA), require BOEM to examine the social and economic impacts of BOEM-authorized activities at the community level. Additionally, Federal policy and guidance state that agencies should meaningfully engage communities with environmental justice (EJ) concerns in their decision making. (Executive Orders 12898, 13985, and 14008).

BOEM plans to pilot an approach to community-informed characterization of communities with EJ concerns potentially impacted by BOEM-authorized activities by selecting nine communities to participate in the study. The goal of this initiative is to improve BOEM's decision making through more detailed environmental analyses that include information on the communities with EJ concerns that may be affected by BOEM-authorized activities. Sections within NEPA documents currently discuss potential EJ impacts in a general sense. To improve its analyses, BOEM proposes to obtain information about specific potential impacts, unique contextual considerations, and the potential for detailed mitigation measures designed based on the affected community.

Baseline information to support community characterization is available but could be better applied in analyses to identify local contexts and reflect local input. BOEM plans to prepare community characterization summaries using information obtained from members of selected communities with EJ concerns to pilot such an approach. Community characterizations would summarize a community's history, demographics, economic conditions, coastal and marine resource use, coastal land use, identification of key leaders and organizations, and other baseline conditions and trends. With these summaries readily accessible, BOEM analysts will continue improving their understanding of the selected affected communities with EJ concerns and the potential impacts from BOEM-approved activities.

As appropriate, these summaries may be included in the relevant environmental analyses that inform BOEM's decisions. Furthermore, conducting community-informed research could advance earlier community awareness of BOEM activities and increase trust. Gaining first-hand information will help “ground-truth” some of the existing information that would be collated into the selected community characterization summaries.

BOEM plans to use various methods, such as interviews and focus groups, to collect information from members of approximately three communities with EJ concerns in each of the three chosen study areas. BOEM seeks comments on, and suggestions of, appropriate information collection methods and study areas.

BOEM proposes to collect information on topics such as those listed below in order to inform community characterization summaries highlighting vulnerabilities, themes, issues, or concerns of each selected community. Each community summary would include relevant history, demographics, economics, coastal and marine resource use, coastal land use including existing facilities, outreach approaches that are locally appropriate for that specific community with EJ concerns, identification of key community leaders and organizations, and other baseline conditions that will enable BOEM analysts to better incorporate specific community interests into environmental reviews and the decision-making process. BOEM is also seeking comments on whether other topics should be included in the selected community characterization summaries.

OMB Control Number: 1010-NEW.

Form Number: None.

Type of Review: New.

Respondents/Affected Public: 9-15 Selected Communities (including community leaders, key informants, and community organizations).

Total Estimated Number of Annual Responses: 135-225 community responses.

Total Estimated Number of Annual Burden Hours: 540-900 hours.

Respondent's Obligation: Voluntary.

Frequency of Collection: On occasion.

Total Estimated Annual Non-Hour Burden Cost: None.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-24188 Filed 11-1-23; 8:45 am]

BILLING CODE 4340-98-P